DEPARTMENT OF HEALTH AND HUMAN SERVICES

Indian Health Service

Mental Health and Community Safety Initiative for American Indian and Alaska Native Children, Youth, and Families

AGENCY: Indian Health Service, HHS.

ACTION: Notice of Funding Availability for Competitive Cooperative Agreements for the Mental Health and Community Safety Initiative for American Indian and Alaska Native (AI/AN) Children, Youth, and Families.

SUMMARY: The Indian Health Service (IHS) has developed the Mental Health and Community Safety Initiative (MHCSI) for American Indian/Alaska Native (AI/AN) Children, Youth, and Families. The IHS announces the availability of Fiscal Year (FY) 2003 funds for cooperative agreements to develop innovative strategies that focus on the mental health, behavioral, substance abuse, and community safety needs of AI/AN young people and their families who are involved or at risk of involvement with the juvenile justice system. This effort was first initiated through the White House Domestic Policy Council to provide federally recognized Tribes and eligible Tribal organizations with assistance to plan, design, and assess the feasibility of implementing a culturally appropriate system of care for AI/ANs. The MHCSI planning phase cooperative agreement program will not fund actual services. An important focus will be to integrate traditional healing methods indigenous to the communities with conventional treatment methodologies. These cooperative agreements are established under the authority of 25 U.S.C. 1621h(m). There will be only one funding cycle during Fiscal Year (FY) 2003. This program is described at 93.230 in the Catalog of Federal Domestic Assistance. These cooperative agreements will be awarded and administered in accordance with:

(a) This announcement;

(b) IHS regulations governing P.L. 94-437 grants and cooperative agreements at 42 CFR 36.101, et seq. and 25 U.S.C. 1621h(m);

(c) 45 CFR Part 92, “Department of Health and Human Services, Uniform Administrative Requirements for Grants and Cooperative Agreements to State and Local Governments,” or 45 CFR Part 74, “Administration of Grants to Non-profit Recipients”;

(d) The Public Health Service (PHS) Grants Policy Statement; and

(e) Applicable Office of Management and Budget (OMB) Circulars. Executive Order 12372 requiring inter-governmental review is not applicable to this program.

The PHS urges applicants submitting strategic health plans to address specific objectives of Healthy People 2010. Potential applicants may obtain a printed copy of Healthy People 2010 (Summary Report 017-001-00473-1) or CD-ROM, Stock No. 107-001-00549-5 through the Superintendent of Documents, Government Printing Office, P.O. Box 371954, Pittsburgh, PA 15250-7945, (202) 512-1800 or you may access this information at the following Web site: www.healthypeople.gov.

Smoke Free Workplace

The PHS strongly encourages all cooperative agreement recipients to provide a smoke-free workplace and promote the non-use of all tobacco products. This is consistent with the PHS mission to protect and advance the physical and mental health of the AI/AN people.

Fund Availability of and Period of Support

Approximately $400,000 is available in Fiscal Year 2003. Approximately 3-4 new awards will be granted. Applicants are not required to match or share in project costs if an award is made. The anticipated start date is September 1, 2003.

Planning Phase

Awards may be requested for up to three years. This announcement is a planning cooperative agreement and will not fund actual services. In the third year of the planning phase, the planning phase cooperative agreement recipients must submit an implementation phase application. Implementation phase funding will be awarded based on a limited competition among the eligible planning phase recipients. Awardees who demonstrate successful planning will be eligible for the five-year implementation cooperative agreement. Annual non-competitive continuation awards depend on the availability of funds and progress achieved.

Note: Successful completion of Phase 1 (the planning phase) is required to be considered for an implementation award.

Awards are to be used to develop or strengthen local infrastructures, capabilities, and collaborations that can lead to improved mental health and family service facilities and/or programs.

In this initial phase, MHSCI cooperative agreement applicants are required to address how they plan to:

(a) Support the development of wrap-around process program, or systems of care models that are designed by AI/AN community members to achieve their selected emotional, behavioral, educational, vocational, and spiritual outcomes for their children;

(b) Pub Tribes as well as eligible urban Indian organizations in a good position to secure funding to implement service systems, secure permanent sources of funding, and/or to enhance self-governance efforts;

(c) Develop a logic model for the system of care that will serve as the basis for developing the strategic plan for the project. The logic model should be least describe the context in which the system of care will be developed, the resources available for the systems of care, the activities that will support the development of the system of care, and the individual services and system outcomes expected from the system of care;

(d) Develop a strategic plan for implementation of the system of care throughout the three year federal funding period. The strategic plan should include a technical assistance plan that shows how training and technical assistance activities will be targeted to areas requiring further development within the systems of care;

(e) Hire key planning phase personnel;

(f) Establish the administrative team;

(g) Organize the governance body;

(h) Develop the approach for services integration and coordination that is appropriate for the target population; and

(i) Create the format for the individualized service plan that incorporates a full array of mental health and support services.

Due Dates

All applicants must submit one signed original and two complete copies of the final proposal with all required documentation. Mark the original application with a cover sheet that states, “Original Cooperative Agreement Application.” Mail the application to the Division of Acquisitions and Grants Management, Grants Management Branch, Indian Health Service, Twinbrook Metro Plaza, Suite 100, 12300 Twinbrook Parkway, Rockville, Maryland 20852, by 5 p.m., Eastern Standard Time, on July 11, 2003. Submissions must be made in hard copy format. Applicants are responsible for determining whether an application has been received by the Grants Management Branch. Applications are not available electronically.

Applications will be considered as meeting the deadline if they are either:

(1) Received on or before the deadline, with hand carried applications received by close of business 5 p.m.; or (2) Postmarked on or before the deadline and all materials received in time to be reviewed along with all other timely applications. A legibly dated receipt from a commercial carrier or the U.S. Postal Service will be accepted in lieu of a postmark. Private metered postmarks will not be accepted as proof of timely mailing. Late applications not accepted for processing will be returned to the applicant and will not be considered for funding.

Hand Delivered Proposals—Hand delivered proposals will be accepted daily between the hours of 8 a.m. to 5 p.m. Eastern Standard Time, Monday through Friday. Proposals will not be accepted after 5 p.m. on July 11, 2003.

Additional Dates

(a) Application Review Date: July 28, 2003.

(b) Applicants Notified of Result: On or about August 15, 2003 (approved, recommended for approval but not funded, ineligible, or disapproved).

(c) Anticipated Start Date: On or about September 1, 2003.

Contacts for Assistance

If you have questions after reviewing the contents of all the documents, you may contact Crystal Ferguson, Grants Management Officer, Grants Management Branch, Division of Acquisitions and Grants Management, Indian Health Service, Twinbrook Parkway, Suite 100, Rockville, Maryland 20852, at (301) 443-5204, regarding business management technical questions or to obtain additional application kits. For programmatic technical assistance for the MHCSI program, contact Jamie Davis Hueston, Ph.D., Office of Public Health, Office of Clinical and Preventive Services, Division of Behavioral Health, 12300 Twinbrook Parkway, Suite 605; Rockville, MD 20852, at (301) 443-2038, Internet address: JDAVIS@HQE.GOV. The telephone numbers are not toll-free.

General Program Information

(a) Background

According to statistics provided by the IHS, of the 1.43 million Indians living on or near reservations, nearly 500,000 or 29% are under the age of 15. Homicide is the second leading cause of death among Indians from 1-14 years of age, and third for 1-24 year-olds. The suicide death rate for 15 to 24 year-old Indians is 2.4 times the corresponding rate for U.S., all races. A study by the National Household Survey on Drug Abuse indicated that the AI/AN population demonstrated the greatest illicit drug use of all racial/ethnic populations. According to the Federal Bureau of Prisons, although AI/ANs only represent 8% of the general population, 61% of the juveniles were in confinement. More than 180 gangs have been identified in AI/AN communities. Jurisdictional differences for troubled youth within the Tribal communities. Forty-five percent of Indian mothers have their first child before age 20, compared to 24% for U.S., all races. Increasingly the number of AI/AN youth involved with the juvenile justice system are found to have serious mental illness. Similarly, Department of Justice statistics indicate that more than 50% of the AI/AN children and youth involved in the juvenile justice system have been abused and/or neglected.

(b) Target Population

For purposes of the MHCSI cooperative agreement program, the target population is federally recognized and eligible AI/AN communities with substantial Tribal youth mental health and community safety issues, including such indicators of youth issues such as:

(1) Elevated rates of depression, behavorial problems, and suicide among the youth population;

(2) Substance abuse problems among the Tribal youth population;

(3) Low educational attainment and high drop-out rates;

(4) High levels of child abuse and family violence in the community; and

(5) High levels of juvenile crime, violence, and gang activity.

Age: Children and adolescents under the age of 18 years and their families.

Diagnosis: The child or adolescent at risk of or experiencing a serious emotional, behavorial, or mental disorder diagnosable under the Diagnostic and Statistical Manual IV (DSM IV).

Disabilities: The child or adolescent is in some way limited to the degree or level of functioning. Inability to perform in the family, school, and/or community is the basic factor which determines the need for services.

(c) Program Purpose

The MHCSI Program requires applicants to address and include specific information from one or both of the areas of focus: Child Abuse and Neglect (CAN) and/or Seriously Mentally Ill (SMI) as a part of their program description.

Area of Focus 1: Child Abuse and Neglect (CAN): Identifies and develops systems of care for victims of child abuse and neglect who are involved and/or at risk of being involved with the juvenile justice system.

Area of Focus 2: Seriously Mentally III (SMI): identifies and develops systems of care for children and youth with serious mental illness and are involved and/or at risk for being involved with the juvenile justice system.

The purpose of the MHCSI cooperative agreement is to target AI/AN children and youth involved with or at risk for involvement with the juvenile justice system and their families. Applicants should also identify children and youth with serious mental illness. This type of cooperative agreement should plan for establishing innovative demonstration programs for child protective services, child abuse prevention (including family violence prevention) programs, and education programs that are community based and culturally relevant as well as provide a “system of care” for the identified children, youth and their families. Tribes are required to identify, evaluate, and refer children and youth who are suspected or know to be SMI and to develop a “system of care.”

Cooperative Agreement Activities

In conducting activities to achieve the purpose of this program the cooperative agreement recipient (Tribes or Tribal/urban Indian organization) will be responsible for the activities listed under A, and IHS will be responsible for activities listed under B.

(a) Cooperative Agreement Recipient Activities

Additional efforts would include, but not be limited to the following activities:

Planning, designing, and assessing

(1) Child abuse prevention (including family violence prevention programs);

(2) Multi-disciplinary child abuse investigation and prevention programs;

(3) Child protection codes and regulations;

(4) Training programs that highlight and/or provide community education on child abuse for juvenile justice staff (e.g., detention staff, officers, and court staff, including judges, prosecutors, parole officers, etc.);

(5) Innovative and culturally relevant programs, projects, and services for AI/AN children and youth who are either involved with or at risk for becoming involved with the juvenile justice system; and

(6) Day services for AI/AN children and youth that improve case management as evidenced by a decrease in the number of psychiatric hospitalizations and an increase in the attainment of family and individual goals through participation in the treatment plan.

(b) IHS Activities

(1) IHS MHCSI project officers, and/or IHS contractor, will provide technical assistance and consultation to the cooperative agreement recipient on program planning, assessing, and designing of comprehensive “wraparound” programs focused on addressing mental health community safety needs;

(2) The IHS contractor will provide technical assistance oversight, regular conference calls, and annual site visits; and

(3) Depending on funding and need, IHS and the contractor will coordinate an annual training workshop for awardees to share lesson learned, successes, and strategies to reducing mental health and community safety needs in AI/AN communities.

Eligible Applicants

Any federally recognized Indian Tribe, Tribally sanctioned organization, or Indian population is eligible to apply for these cooperative agreements. For the purpose of this program, a Tribal organization can be a consortium or group of Tribes. Although there is no minimum population size required in order to apply, Tribes and Tribal organizations are encouraged to coordinated their applications with others to maximize the impact of cooperative agreement funding within AI/AN communities.

In addition, the funds available under the program are to develop or strengthen local infrastructure and capabilities in communities that have had difficulty in securing previous federal mental health funding (i.e., grants, cooperative agreements) to develop mental health and community safety initiatives for children and families.

Documentation

Tribal Resolution: A resolution of the Indian Tribe served by the project must accompany the application submission. Applications that propose projects affecting more than one Indian Tribe must include resolutions from each Tribe to be served.

Applications from Tribal organizations will not require a specific Tribal resolution if the current Tribal resolution(s) under which they operate would encompass the proposed cooperative agreement activities. A copy of the current operational resolution must accompany the application.

A draft resolution is acceptable in lieu of an official resolution for purposes of submitting an application. (If you send a draft, please provide an approximate date regarding when it will come up for a vote.) If a current resolution or a draft is not submitted by the time of review, the application will be considered incomplete and will be returned without consideration. If a draft resolution is submitted, an official resolution must be sent to the Grants Management Branch office when it is passed. A cooperative agreement award will not be made until a final resolution is submitted from each Tribe involved with the project.

Award of Funds and Period of Support

(a) Award of Funds

Approximately 3-4 new awards will be made. Awards will range between $100,000 and $125,000, inclusive of direct and indirect costs depending on whether 3 or 4 cooperative agreements are awarded.

(b) Period of Support

Projects will be funded for a project period of 3 years. Continuation of a cooperative agreement for the second and third year is contingent on satisfactory performance by the recipient, availability of funding for the project, and continuing need of the agency for the project.

Application Kit

An application kit, including the required PHS 5161-1 (Rev. 7/00) (OMB Approval No. 0920-0428) and the U.S. Government Standard Forms (SF-424, SF-424A, and SF-424B), may be obtained by writing or calling the Division of Acquisitions and Grants Management, Grants Management Branch, IHS, Twinbrook Metro Plaza, Suite 100, 12300 Twinbrook Parkway, Rockville, MD 20852, at (301) 443-5204. (Note: this is not a toll free number.)

(a) Cooperative Agreement Application Lay Out Instructions

(1) Applications—All applications should be single-spaced and typewritten; using consecutively numbered pages; use black typeface not smaller than 12 characters per inch; one inch border margins; printed on only one side of standard size 8½″ x 11″ paper; have a narrative that does not exceed 10 typed] pages; and not be tabbed, glued, or placed in a plastic holder.

Excluded form the 10-page limit are the Standard Forms, Tribal Resolution(s), Abstract, Table of Contents, Budget Justifications, Multi-year Narratives for budget periods, and/or the Appendix.

(2) Include in the application the following documents, preferably in the order presented: Assistance Application Receipt Card, IHS-815-1A (Rev. 4/97).

(a) FY 2003 MHCSI Application Checklist;

(b) Standard Form 424, Application for Federal Assistance;

(c) Standard Form 424A, Budget Information Non-Construction Programs (pages 1 and 2);

(d) Standard Form 424B, Assurances Non-Construction Programs (front and back);

(e) PHS-5161 Checklist (pages 25-26);

(f) PHS-5161 Certifications (pages 17-19);

(g) Disclosure of Lobbying Activities;

(h) Current Tribal Resolution(s);

(i) A Project Abstract (may not exceed one typewritten page) should present a summary view of “who-what-when-where-how-cost” to determine acceptability for review;

(j) A Table of Contents to correspond with numbered pages;

(k) Project Narrative (items A-G below; may not exceed 10 typewritten pages);

(1) Background, Need for Assistance, and Capacity

(2) Project Goals and Objectives

(3) Management Controls

(4) Key Personnel

(5) Budget

(6) Evaluation

(7) Previous Grant or Cooperative Agreement Awards

(l) Categorical Budget Justification;

(m) Multi-year Narratives and Budget Justifications; and

(n) Appendix to include: Resumes of key staff, position descriptions for key staff, consultant proposed scope of work, current organizational chart, and current negotiated Indirect Cost Rate (if claimed).

Application Narrative Instructions, Evaluation Criteria, and Weights

The instructions for preparing the application narrative also constitute the evaluation criteria for reviewing and scoring the application. Weights assigned to each section are noted in parentheses.

Note: There are Separate Instructions and Weights Assigned.

Project Narrative: Describe the complete project in clear and concise language. Application reviewers may have little or no knowledge of the Tribe/Tribal organization. The Project Narrative should be organized as described in items A-G above and must address the following evaluation criteria:

(a) Background, Need for Assistance, and Capacity (25 points)

The application will be evaluated based on the extent to which the applicant:

(1) Describes and defines the target population at the project location (e.g., Tribal population, number of CAN and/or SMI cases reported, number of cases prosecuted, number of children/families currently receiving treatment, number of children/families determined to be at risk), and identifies the information sources;

(2) Lists the number of CAN and/or SMI children and youth who are involved or at risk for becoming involved with the juvenile justice systems and specifies the source of information for all data that supports the need for program;

(3) Describes the existing resources and available resources, including the availability of AI/AN healing resources that will provide services to the target population and their families;

(4) Describes the needs of the target population and what efforts have been made in the past to meet the need, as applicable (e.g., number of treatment providers, collaborative efforts and agreements with other treatment programs, availability of program funding from other sources);

(5) Summarizes the applicable standards, laws, regulations, and codes and

(6) Shows Tribal or organizational support for the proposed program.

(b) Program Goals and Objectives (30 points)

The application will be evaluated on the extent to which the applicant:

(1) Includes a clear description of the objectives and goals of the program and what is expected to be accomplished;

(2) Describes how the accomplishment of the objectives will be measured, including whether or not the program is replicable;

(3) Describes tasks and resources needed to implement and complete the project;

(4) Provides milestones or a time chart that indicates the time that the project will begin to accept clients;

(5) Defines the data collection mechanism for the project, how it will be obtained, analyzed, and maintained;

(6) Includes information in the data system that reflects the number and types of people served, services provided, client outcomes, client satisfaction, and associated costs;

(7) Describes how the data collection will support the stated objectives for the program and how it will support the evaluation of the program;

(8) Describes the evaluation methodology and related activities, describes how the effectiveness of the employed interventions will be monitored as well as the acceptance of the program within the community; and

(9) Develops a knowledge base of reliable and valid service system models that define the best outcomes for AI/AN children and their families, respecting the unique features of the culture of the target community (e.g. Northern Plains, Pueblo, Alaska Native village).

Further evaluation will be made of how well the applicant:

(1) Discusses the manner that allows the program services to continue after the cooperative agreement expires;

(2) Expresses willingness to share models of success with other communities and programs;

(3) Develops a cohesive and effective mental health service system that draws on Tribal, federal, State, local, and private resources, including traditional healers as determined by the community. The system of care must involve education, primary care, justice, child welfare, as well as behavioral health prevention and treatment; and

(4) Describes how data derived from the program will be used for improving the service system, increasing the quality of service delivery, developing system of care policies in the local community, and sustaining the system of care beyond the eight-year period of federal funding.

(c) Management Controls (15 points)

The application will be evaluated on the extent to which the applicant:

(1) Describes the project location, facilities, and available equipment;

(2) Describes the management controls of the recipient over the direction and acceptability of work to be performed;

(3) Describes the personnel and financial mechanisms to be utilized;

(4) Demonstrates that the organization has adequate systems and expertise to manage federal funds; and

(5) Includes a letter from the accounting firm with the results of the most recent financial audit for the organization.

(d) Key Personnel (10 points)

The application will be evaluated based on the extent to which the applicant:

(1) Provides a resume, qualifications, and position description for the program director and key personnel as described on page 22 of the PHS 5161;

(2) Identifies existing personnel and new program staff to be hired;

(3) Lists the qualifications and experience of consultants or contractors where the use is anticipated; and

(4) Identifies who will determine if the contracted work is acceptable and how the determination will be made.

(e) Budget (10 points)

The application will be evaluated based on the extent to which the applicant:

(1) Provides an itemized estimate of costs and a justification for the proposed program on SF 424A, Budget Information Non-Construction Programs;

(2) Allows for a narrative justification that describes the expenditures and the justification for the expenditures;

(3) Indicates special start-up costs;

(4) Includes a brief program narrative and budget for each additional year of funding requested; and

(5) Provides a statement that cooperative agreement funding may not be used to supplant existing public and private resources.

(f) Evaluation (10 points)

The application will be critiqued to the extent to which the applicant implements an evaluation protocol. Collaboration and coordination with local Tribal colleges or universities is highly encouraged. The application will be evaluated on the extent to which, the applicant:

(1) Describes the knowledge and experience of individuals with evaluation expertise available within the local community;

(2) Specifies the degree to which these individuals have specialized knowledge and experience about:

(i) Applied research and evaluation methods, as well as family and community study approaches;

(ii) Children's mental health services; and

(iii) Directing and supervising research and evaluation projects.

Application Consideration

Applications submitted by the closing date and verified by the postmark will undergo a review to determine that the:

(1) Applicant is eligible in accordance with the Eligibility and Documentation section of this announcement;

(2) Application narrative, forms, and materials submitted meet the requirements of the announcement and allow the review panel to undertake an in-depth evaluation; otherwise, the application will be returned to the applicant and the application is not a duplication of a previously funded project and the application complies with this announcement; otherwise it will be returned.

Competitive Review of Accepted Applicants

Applications meeting eligibility requirements that are complete, responsive, and conform to this program announcement will be reviewed for merit by an Ad Hoc Objective Review Committee (ORC) appointed by the IHS to review and make recommendations on these applications. The review will be conducted in accordance with the PHS Objective Review Guidelines. The technical review process ensures selection of quality projects in a national competition for limited funding. Applications will be evaluated and rated on the basis of the five evaluation criteria listed above for the type of project submitted. These criteria are used to evaluate the quality of a proposed project, to assign a numerical score to each application, and to determine the likelihood of success. Applications scoring below 60 points will be disapproved. The scoring of approved applications will assist the IHS in determining which proposals will be funded if the amount MHCSI funding is not sufficient to support all approved applications.

Reporting Requirements

(1) Progress Reports

Program progress reports are required quarterly. A final progress and financial status report are also required at the end (within 90 days) of the project period. Evaluation results must be included in each required quarterly and final report. IHS program staff will use this information to determine progress of the recipient toward meeting its goals.

Suggested elements for required reports are:

(a) Description of activities conducted;

(b) Number of persons participating, what groups, organizations, etc., they represented;

(c) Emerging issues and consensus;

(d) Problems encountered, planned resolution or problems;

(e) Government Performance and Results Act and local evaluation findings during the reporting period; and

(f) Activities planned for the next quarter.

The final report must summarize information from the quarterly reports and describe the accomplishments of the project and planned next steps for implementing plans developed during the cooperative agreement period.

(2) Financial Status Reports

Semi-annual financial status reports must be submitted within 30 days after the end of each 6-month period. Final financial status reports are due within 90 days after expiration of the budget/project period. Standard Form 269 (long form) will be used for financial reporting.

Cooperative Agreement Administration Requirements

Cooperative agreements are administered in accordance with the following documents:

(1) 45 CFR part 92, “Department of Health and Human Service, Uniform Administrative Requirements for Grants and Cooperative Agreements to State and Local Governments Including Indian Tribes,” or 45 CFR part 74, “Administration of Grants to Non-Profit Recipients.”

(2) PHS Policy Statement.

(3) Appropriate Cost Principles: OMB Circular A-87, “State and Local Governments,” or OMB Circular A-122, “Non-profit Organizations.”

(4) OMB Circular A-133, “Audits of States, Local Governments, and Non-Profit Organizations.”

Results of the Review

The recommendations of the objective review committee are forwarded to the Director, Office of Public Health, for a final review and approval. In addition to the objective review recommendations, the Director considers the program and business officials. After final decisions have been made on all applications, applicants will be notified of the results by August 15, 2003. Unsuccessful applicants will be notified in writing.

Successful applicants are notified through the official Notice of Grant Award (NGA) document. The NGA will state the amount of Federal funds awarded, the project and budget period, the effective date of the award, and the terms and conditions of the cooperative agreement.

Dated: April 21, 2003.
Charles W. Grim,
Assistant Surgeon General, Interim Director, Indian Health Service.

[FR Doc. 03-10884 Filed 5-1-03; 8:45 am]

BILLING CODE 4160-16-M